DEPARTMENT OF TRANSPORTATION

Federal Aviation Administration

Environmental Impact Statement: San Antonio International Airport, San Antonio, TX

AGENCY: Federal Aviation Administration (FAA), DOT.

ACTION: Notice of intent.

SUMMARY: The Federal Aviation Administration announces that it will prepare an Environmental Impact Statement (EIS) for implementation of projects proposed at San Antonio International Airport.

FOR FURTHER INFORMATION CONTACT: Responsible Official: Mr. Paul Blackford, Environmental Specialist, Federal Aviation Administration, Southwest Region, Texas Airports Development Office, 2601 Meacham Blvd., Ft. Worth, Texas 76137-4298. Telephone (817) 222-5607.

SUPPLEMENTARY INFORMATION: The Federal Aviation Administration will prepare and consider an EIS for implementation of proposed projects at San Antonio International Airport. Major development projects to be assessed in the EIS include a 1,500 ft. extension of Runway 3/21 to a runway length of approximately 9,000 ft; the reconstruction and upgrade of Runway 12L/30R from general aviation to aircarrier dimensions of approximately 8,500 ft. by 150 ft. as well as associated taxiways, the installation of an instrument landing system, and related land acquisition; and other related development. These projects are proposed to improve safety, efficiency, and accommodate growing aviation demand at the Airport. These actions were identified in the San Antonio International Airport Master Plan Study.

The EIS will also consider the potential uses of approximately 180 acres of Airport owned land. The 180 acres is located in the far north portion of the Airport, north of Starcrest and bound by Wetmore Road and Wurzbach Parkway, which is not contiguous with the Airport. Potential land uses include warehousing, large commercial or similar uses.

The EIS will evaluate the feasibility of certain air traffic or procedural actions recommended in the Airport's Federal Aviation Regulation (FAR) part 150 Noise Compatibility Program Update including: a Preferential Runway Use Program for Runways 12L/30R, 12R/30L and 3/21; Runway 12R/30L and Runway 3/21 intersection removal that would be offset by an approximately 400 ft. extension to the northwest; the establishment of a 15° right turn on departure from Runway 3; and the establishment of a departure corridor for Runway 21 over Highway 281 for southbound aircraft. These procedural actions will be evaluated as part of the EIS for feasibility regarding effects on safety, efficiency, and capacity.

To ensure that the full range of issues related to the proposed projects are addressed and that all significant issues are identified, the Federal Aviation Administration intends to consult and coordinate with Federal, State, and local agencies having jurisdiction by law or specific expertise with respect to any environmental impacts associated with the proposed projects. In order to notify the general public of the scoping process, a notice will be placed in a newspaper having general circulation in the project area describing the proposed projects and their purpose. The newspaper notice will inform the public that scoping meetings will be held to gain their input concerning the proposed projects at the following locations:

• March 23, 2004, from 6:30 to 8:30 p.m., Doubletree Hotel (to be held in Salon I and II), 37 NE. Loop 410, San Antonio, Texas 78216;

• March 24, 2004, from 6:30 to 8:30 p.m., Northern Hills Country Club, 13202 Scarsdale, San Antonio, Texas 78217.

Federal, State and local agencies will be notified of the Agency meeting via letter. The Agency scoping meeting will be held at 10 a.m., March 23, 2004, at the Airport Conference room A, Terminal 1, Mezzanine Level, at San Antonio International Airport.

Issued in Ft. Worth, Texas on February 12, 2004.
Naomi L. Saunders,
Manager, Airports Division.

[FR Doc. 04-4292 Filed 2-25-04; 8:45 am]

BILLING CODE 4910-13-M